DEPARTMENT OF ENERGY

Federal Energy Regulatory Commission

[Docket Nos. CP06-275-000]

Equitrans, L.P.; Notice of Application

May 18, 2006.

Take notice that on May 10, 2006, Equitrans, L.P. (Equitrans); 225 North Shore Drive, Pittsburgh, PA 15212, filed an application pursuant to section 7(c) of the Natural Gas Act (NGA) of the Commission's regulations, as amended, for a certificate of public convenience and necessity authorizing the construction and operation of interstate natural gas pipeline facilities necessary to provide up to130, 000 Dekatherms per day (Dth/d) of firm transportation service. This application is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Specifically, Equitrans proposes to construct and operate 69.9 miles of new 20-inch diameter pipeline and related facilities (the Big Sandy Pipeline Project) that will provide a direct connection between the Big Sandy Compression Station in Langley, Kentucky, and a proposed new interconnection with Tennessee Gas Pipeline Company's Broad Run Lateral in Carter County, Kentucky. Equitrans also proposes to install three (3) 3,000 horsepower (hp) electrically-driven compressor units at the outlet of the existing Kentucky Hydrocarbon Compressor Station in Langley. In addition, Equitrans proposes to install a meter station and launcher, pressure regulation facilities and a receiver at the terminus of the pipeline. Equitrans estimates that the proposed facilities will cost $150,371,210.

Any questions about this application should be directed to David K. Dewey, Vice President & General Counsel, Equitrans, L.P., 225 North Shore Drive, Pittsburgh, PA 15212, at 412-395-2566 or fax 412-395-3311.

There are two ways to become involved in the Commission's review of this project. First, any person wishing to obtain legal status by becoming a party to the proceedings for this project should, on or before the comment date listed below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of this filing and all subsequent filings made with the Commission and must mail a copy of all filings to the applicant and to every other party in the proceeding. Only parties to the proceeding can ask for court review of Commission orders in the proceeding.

However, other persons do not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to this project provide copies of their protests only to the party or parties directly involved in the protest.

Persons may also wish to comment further only on the environmental review of this project. Environmental commenters will be placed on the Commission's environmental mailing list, will receive copies of environmental documents issued by the Commission, and will be notified of meetings associated with the Commission's environmental review process. Those persons, organizations, and agencies who submitted comments during the NEPA Pre-Filing Process in Docket No. PF06-12-000 are already on the Commission staff's environmental mailing list for the proceeding in the above dockets and may file additional comments on or before the below listed comment date. Environmental commenters will not be required to serve copies of filed documents on all other parties. However, environmental commenters are also not parties to the proceeding and will not receive copies of all documents filed by other parties or non-environmental documents issued by the Commission. Further, they will not have the right to seek court review of any final order by Commission in this proceeding.

The Commission strongly encourages electronic filings of comments, protests, and interventions via the Internet in lieu of paper. See 18 CFR 385.2001(a)(1)(iii) and the instructions on the Commission's Web site (http://www.ferc.gov) under the “e-Filing” link.

Comment Date: June 8, 2006.

Magalie R. Salas,
Secretary.

[FR Doc. E6-7957 Filed 5-23-06; 8:45 am]

BILLING CODE 6717-01-P